TENNESSEE VALLEY AUTHORITY

18 CFR Part 1310

Administrative Cost Recovery

AGENCY: Tennessee Valley Authority (TVA).

ACTION: Final rule.

SUMMARY: TVA is amending its administrative cost recovery regulations by eliminating cost recovery exemptions for the following: Conveyances of land pursuant to Section 4(k)(d) of the Tennessee Valley Authority Act of 1933, as amended (16 U.S.C. 831c(k)(d)); TVA phosphate land transactions; and permits and licenses for use of TVA land by distributors of TVA power.

The implementation of this rule amendment will allow TVA to recover more of its administrative costs incurred in processing certain actions from those who directly benefit from the actions.

EFFECTIVE DATE: April 11, 2007.

FOR FURTHER INFORMATION CONTACT: Nancy Greer, Senior Manager, Process and Performance Management, (865) 632-3339.

SUPPLEMENTARY INFORMATION: In order to help ensure that TVA land management and permitting activities are self-sustaining to the full extent possible, the agency is amending its administrative cost recovery regulations by eliminating certain mandatory cost recovery exemptions. This determination is consistent with the objectives of increasing efficiency and recovering the cost of government services from those who most directly benefit from the services.

TVA is amending its administrative cost recovery regulation by eliminating the following exemptions: Conveyances of land pursuant to Section 4(k)(d) of the Tennessee Valley Authority Act of 1933, as amended (16 U.S.C. 831c(k)(d)); TVA phosphate land transactions; and permits and licenses for use of TVA land by distributors of TVA power.

TVA is also amending the rule to reflect new organizational changes within the agency. The terms “Vice President of Land Management” or “Manager of Power Properties” are to be amended to read “Senior Manager of the TVA organization that manages the land.”

TVA published a proposed rule on April 14, 2006. TVA considers this final rule to be a nonsubstantive rule relating to agency management and public property pursuant to 5 U.S.C. 553(a)(2). However, TVA provided a thirty day public comment period to hear from any interested parties. No comments were received. Since this rule relates to services provided by the agency, a regulatory flexibility analysis is not required.

List of Subjects in 18 CFR Part 1310

Government property, Hunting.

For the reasons set out in the preamble, TVA amends 18 CFR part 1310 as follows:

PART 1310—ADMINISTRATIVE COST RECOVERY

1. The authority citation for part 1310 continues to read as follows:

Authority: 16 U.S.C. 831-831dd; 31 U.S.C. 9701.

2. Revise paragraphs (a) introductory text and (b) of § 1310.2 to read as follows:

§ 1310.2 Application.

(a) General. TVA will undertake the following actions only upon the condition that the applicant pay to TVA such administrative charges as the Senior Manager of the TVA organization that administers the land or permit being considered (hereinafter “responsible land manager”), as appropriate, shall assess in accordance with § 1310.3; provided, however, that the responsible land manager may waive payment where he/she determines that there is a corresponding benefit to TVA or that such waiver is otherwise in the public interest.

* * * * *

(b) Exemption. An administrative charge shall not be made for the following actions:

(1) Releases of unneeded mineral right options.

(2) TVA mineral transactions.

* * * * *

Authority: 16 U.S.C. 831-831dd (2000 & Supp. III 2003).

Dated: March 2, 2007.
Kathryn J. Jackson,
Executive Vice President, River System Operations & Environment and Environmental Executive, Tennessee Valley Authority.

[FR Doc. 07-1702 Filed 4-10-07; 8:45 am]

BILLING CODE 8120-08-M